DEPARTMENT OF EDUCATION

Disability and Rehabilitation Research Project; National Data and Statistical Center for the Burn Model Systems

AGENCY: Office of Special Education and Rehabilitative Services, Department of Education.

ACTION: Notice.

Overview Information:

Proposed priority—National Institute on Disability and Rehabilitation Research (NIDRR)—Disability and Rehabilitation Research Projects and Centers Program—Disability and Rehabilitation Research Project (DRRP)—National Data and Statistical Center for the Burn Model Systems.

CFDA Number: 84.133A-4.

SUMMARY: The Assistant Secretary for Special Education and Rehabilitative Services proposes a priority under the Disability and Rehabilitation Research Projects and Centers Program administered by the National Institute on Disability and Rehabilitation Research (NIDRR). Specifically, this notice proposes a priority for a DRRP that will serve as a National Data and Statistical Center for the Burn Model Systems. The Assistant Secretary may use this priority for competitions in fiscal year (FY) 2012 and later years. We take this action to focus research attention on areas of national need. We intend this priority to contribute to improved outcomes for individuals with burn injury.

DATES: We must receive your comments on or before April 6, 2012.

ADDRESSES: Address all comments about this notice to Lynn Medley, U.S. Department of Education, 400 Maryland Avenue SW., Room 5140, Potomac Center Plaza (PCP), Washington, DC 20202-2700.

If you prefer to send your comments by email, use the following address: lynn.medley@ed.gov. You must include “Proposed Priority for the National Data and Statistical Center for the Burn Model Systems” in the subject line of your electronic message.

FOR FURTHER INFORMATION CONTACT: Lynn Medley. Telephone: (202) 245-7338 or by email: Lynn.Medley@ed.gov.

If you use a telecommunications device for the deaf (TDD), call the Federal Relay Service (FRS), toll free, at 1-800-877-8339.

SUPPLEMENTARY INFORMATION: This notice of proposed priority is in concert with NIDRR's currently approved Long-Range Plan (Plan). The Plan, which was published in the Federal Register on February 15, 2006 (71 FR 8165), can be accessed on the Internet at the following site: www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice proposes a priority that NIDRR intends to use for a DRRP competition in FY 2012 and possibly later years. However, nothing precludes NIDRR from publishing additional priorities, if needed. Furthermore, NIDRR is under no obligation to make an award for this priority. The decision to make an award will be based on the quality of applications received and available funding.

Invitation to Comment: We invite you to submit comments regarding this notice. To ensure that your comments have maximum effect in developing the notice of final priority, we urge you to identify clearly the specific topic that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about this notice in Room 5140, 550 12th Street SW., PCP, Washington, DC, between the hours of 8:30 a.m. and 4 p.m., Washington, DC time, Monday through Friday of each week except Federal holidays.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under For Further Information Contact.

Purpose of Program: The purpose of the Disability and Rehabilitation Research Projects and Centers Program is to plan and conduct research, demonstration projects, training, and related activities, including international activities; to develop methods, procedures, and rehabilitation technology that maximize the full inclusion and integration into society, employment, independent living, family support, and economic and social self-sufficiency of individuals with disabilities, especially individuals with the most severe disabilities; and to improve the effectiveness of services authorized under the Rehabilitation Act of 1973, as amended (Rehabilitation Act).

Disability and Rehabilitation Research Projects

The purpose of NIDRR's DRRPs, which are funded through the Disability and Rehabilitation Research Projects and Centers Program, is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: Research, training, demonstration, development, dissemination, utilization, and technical assistance.

Program Authority: 29 U.S.C. 762(g) and 764(a).

Applicable Program Regulations: 34 CFR part 350.

Proposed Priority: This notice contains one proposed priority.

National Data and Statistical Center for the Burn Model Systems

Background:

It is estimated that there are more than 1 million burn injuries in the United States each year. Approximately 450,000 of these burn injuries are treated annually in emergency departments, hospital outpatient clinics, free-standing urgent care centers, or private physician offices, and 45,000 are severe enough to require hospitalization (Esselman et al., 2006; American Burn Association, 2011).

In recent years, burn survivability has increased dramatically. This improvement in survival rates has brought rehabilitation issues to the forefront of care for burn survivors and led to increased demands for research-based knowledge about the post-acute experiences and needs of burn survivors (Esselman et al., 2006).

NIDRR created the Burn Injury Rehabilitation Model Systems of Care (BMS) in 1994 to provide leadership in rehabilitation, a key component of exemplary burn care, and to advance the research base of rehabilitation services for burn survivors. NIDRR currently funds 4 BMS Centers throughout the United States. Each center provides a coordinated system of burn injury care to individuals who sustain a burn injury, including emergency care, acute care management, comprehensive inpatient rehabilitation, and long-term interdisciplinary community re-entry services. In addition, the BMS Centers conduct research to generate new knowledge about the natural course of burn injury and rehabilitation treatment and outcomes following burn injury.

The BMS Centers have developed a longitudinal database that contains information on approximately 4,700 people injured with burns since 1994 (BMS Database). Since 1994, BMS Centers have collected longitudinal data on database participants at six months, twelve months, and twenty-four months after injury. In the 2006-2011 funding cycle, the BMS Centers conducted a pilot test to determine the feasibility of also collecting longitudinal data at five years and ten years after injury. As a result of this pilot test, NIDRR has decided to extend longitudinal data collection for 2012-2017 to include all participants and to occur every fifth year after injury (five years, ten years, fifteen years, etc.).

The BMS Database is emerging as an important source of information about the characteristics and life course of individuals with burn injury and can be used to examine specific outcomes of burn injury. NIDRR seeks to build upon this database by continuing to fund a National Data and Statistical Center for the BMS (National BMS Data Center), which maintains the BMS Database, improves the quality of information that is entered into it, and facilitates the use of the data by BMS researchers and the public.

The BMS Database is a collaborative project in which all of the BMS Centers are required to participate. The data for the BMS Database are collected by the BMS Centers. The directors of the BMS Centers, including the National BMS Data Center, in consultation with NIDRR, determine the parameters of the BMS Database, including the number and type of variables to be examined, the criteria for including individuals with burn injuries in the BMS Database, and the frequency and timing of data collection.

The specifications of the BMS Database as it is currently implemented (including information about the number of database participants, the variables in the database, and the longitudinal intervals at which data are collected) can be obtained from the BMS Database Coordination Center at http://bms-dcc.ucdenver.edu/.

References:

American Burn Association (2011). Burn Incidence and Treatment in the United States: 2011 Fact Sheet. http://www.ameriburn.org/resources_factsheet.php.

Esselman, P., Thombs, B., Fauerbach, J., Magyar-Russell, G., Price, M. (2006). Burn Rehabilitation State of the Science Review. American Journal of Physical Medicine and Rehabilitation, 85 (2006) 383-413.

Proposed Priority:

The Assistant Secretary for Special Education and Rehabilitative Services proposes a priority for the establishment of a National Data and Statistical Center for the Burn Model Systems (National BMS Data Center). The National BMS Data Center must advance medical rehabilitation by increasing the rigor and efficiency of scientific efforts to assess the experiences and outcomes of individuals with burn injury. To meet this priority, the National BMS Data Center's research and technical assistance must be designed to contribute to the following outcomes:

(a) Maintenance of a national longitudinal database (BMS Database) for data submitted by each of the Burn Model Systems Centers (BMS Centers). This database must provide confidentiality, quality control, and data-retrieval capabilities, using cost-effective technology and user-friendly interfaces.

(b) High-quality, reliable data in the BMS Database. The National BMS Data Center must contribute to this outcome by providing training and technical assistance to BMS Centers on subject retention and data collection procedures, data entry methods, and appropriate use of study instruments, and by monitoring the quality of the data submitted by the BMS Centers.

(c) High-quality data collected from database participants of all racial/ethnic backgrounds. The National BMS Data Center must contribute to this outcome by providing knowledge, training, and technical assistance to the BMS Centers on culturally appropriate methods of longitudinal data collection and participant retention.

(d) Rigorous research conducted by BMS Centers and investigators from outside of the BMS network who are analyzing data from the BMS Database. The National BMS Data Center must contribute to this outcome by making statistical and other methodological consultation available for research projects that use the BMS Database, as well as site-specific research projects being conducted by the BMS Centers.

(e) Improved efficiency of the BMS Database operations. The National BMS Data Center must pursue strategies to achieve this outcome, such as collaborating with the National Data and Statistical Center for Traumatic Brain Injury Model Systems, the National Data and Statistical Center for Spinal Cord Injury Model Systems, and the Model Systems Knowledge Translation Center (MSKTC).

(f) Improved reports for the public from the BMS Database. The National BMS Data Center must produce a report based on the BMS Database at least once a year that provides basic demographic, epidemiological, and outcome information about burn survivors. The National BMS Data Center must collaborate with the MSKTC to distribute information about burn injury and burn rehabilitation to the public through a NIDRR-funded Web site and other media.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority:

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are taking this regulatory action only on a reasoned determination that its benefits justify its costs. In choosing among alternative regulatory approaches, we selected those approaches that maximize net benefits. Based on the analysis that follows, the Department believes that this proposed priority is consistent with the principles in Executive Order 13563.

We also have determined that this regulatory action would not unduly interfere with State, local, and tribal governments in the exercise of their governmental functions.

In accordance with both Executive orders, the Department has assessed the potential costs and benefits of this regulatory action. The potential costs associated with this regulatory action are those resulting from statutory requirements and those we have determined as necessary for administering the Department's programs and activities.

The benefits of the Disability and Rehabilitation Research Projects and Centers Programs have been well established over the years in that similar projects have been completed successfully. This proposed priority would generate new knowledge through research and development. Another benefit of this proposed priority is that the establishment of new DRRPs would improve the lives of individuals with disabilities. The new DRRP would generate, disseminate, and promote the use of new information that would improve the options for individuals with disabilities to perform activities of their choice in the community.

Intergovernmental Review: This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue SW., Room 5075, PCP, Washington, DC 20202-2550. Telephone: (202) 245-7363. If you use a TDD, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 2, 2012.
Alexa Posny,
Assistant Secretary for Special Education and Rehabilitative Services.

[FR Doc. 2012-5565 Filed 3-6-12; 8:45 am]

BILLING CODE 4000-01-P